DEPARTMENT OF DEFENSE

GENERAL SERVICES ADMINISTRATION

NATIONAL AERONAUTICS AND SPACE ADMINISTRATION

[OMB Control No. 9000-0054; Docket 2012-0076; Sequence 3]

Federal Acquisition Regulation; Information Collection; Submission for OMB Review; U.S.-Flag Air Carriers Statement

AGENCIES: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve a previously approved information collection requirement concerning U.S. Flag Air Carriers Certification.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before May 8, 2012.

ADDRESSES: Submit comments identified by Information Collection 9000-0054, U.S. Flag Carriers Certification by any of the following methods:

• Regulations.gov: http://www.regulations.gov. Submit comments via the Federal eRulemaking portal by inputting “Information Collection 9000-0054, U.S. Flag Carriers Certification” under the heading “Enter Keyword or ID” and selecting “Search”. Select the link “Submit a Comment” that corresponds with “Information Collection 9000-0054, U.S. Flag Carriers Certification”. Follow the instructions provided at the “Submit a Comment” screen. Please include your name, company name (if any), and “Information Collection 9000-0054, U.S. Flag Carriers Certification” on your attached document.

• Fax: 202-501-4067.

• Mail: General Services Administration, Regulatory Secretariat (MVCB), 1275 First Street NE., Washington, DC 20417. Attn: Hada Flowers/IC 9000-0054, U.S. Flag Carriers Certification.

Instructions: Please submit comments only and cite Information Collection 9000-0054, U.S. Flag Carriers Certification, in all correspondence related to this collection. All comments received will be posted without change to http://www.regulations.gov, including any personal and/or business confidential information provided.

FOR FURTHER INFORMATION CONTACT: Mr. Curtis Glover, Procurement Analyst, Contract Policy Division, GSA (202) 501-1448 or via email at Curtis.glover@gsa.gov.

SUPPLEMENTARY INFORMATION:

A. Purpose

Section 5 of the International Air transportation Fair Competitive Practices Act of 1974 (49 U.S.C. 1517) (Fly America Act, implemented FAR 47.4, which requires that all Federal agencies and Government contractors and subcontractors use U.S.-flag air carriers for U.S. Government-financed international air transportation of personnel (and their personal effects) or property, to the extent that service by those carriers is available. It requires the Comptroller General of the United States, in the absence of satisfactory proof of the necessity for foreign-flag air transportation, to disallow expenditures from funds, appropriated or otherwise established for the account of the United States, for international air transportation secured aboard a foreign-flag air carrier if an U.S.-flag carrier is available to provide such services. In the event that the contractor selects a carrier other than an U.S.-flag air carrier for international air transportation, the contractor shall include per FAR clause 52.247-64, Preference for U.S.-Flag Air Carriers, a statement on vouchers involving such transportation. The contracting officer uses the information furnished in the statement to determine whether adequate justification exists for the contractor's use of other than U.S.-flag air carrier.

B. Annual Reporting Burden

Respondents: 150.

Responses per Respondent: 2.

Annual Responses: 300.

Hours per Response: .25.

Total Burden Hours: 75.

Obtaining Copies of Proposals:

Requesters may obtain a copy of the information collection documents from the General Services Administration, Regulatory Secretariat (MVCB), 1275 First Street NE., Washington, DC 20417, telephone (202) 501-4755. Please cite OMB Control No. 9000-0054, Submission for OMB Review; U.S.-Flag Air Carriers Certification, in all correspondence.

Dated: March 5, 2012.
Laura Auletta,
Director, Office of Governmentwide Acquisition Policy, Office of Acquisition Policy, Office of Governmentwide Policy.

[FR Doc. 2012-5733 Filed 3-8-12; 8:45 am]

BILLING CODE 6820-EP-P